ENVIRONMENTAL PROTECTION AGENCY

[FRL-7210-3]

Paying for Water Quality: Managing Funding Programs To Achieve the Greatest Environmental Benefits; Report to Congress

AGENCY: Environmental Protection Agency (EPA).

ACTION: Notice of availability of report.

SUMMARY: The Environmental Protection Agency held a public workshop on March 14-15, 2002, to provide a forum to discuss how water quality funding programs can be managed and enhanced to achieve the greatest environmental benefit. A report to Congress entitled, “Paying for Water Quality: Managing Funding Programs to Achieve the Greatest Environmental Benefit,” was drafted based on the presentations and comments made during the workshop and is available for public comment and review. The report can be downloaded from EPA's Web site at www.epa.gov/owm/srfwkshp.htm. All comments can be sent to Jordan Dorfman, Environmental Protection Agency, Office of Wastewater Management, State Revolving Fund Branch, 1201 Constitution Avenue, NW, Washington, DC 20004, Mail Code 4204M; telephone: 202-564-0614; e-mail: dorfman.jordan@epa.gov.

DATES: The report will be available for public comment and review for a period of two weeks from the date of this notice.

FOR FURTHER INFORMATION CONTACT: Jordan Dorfman, Environmental Protection Agency, Office of Wastewater Management, State Revolving Fund Branch; telephone: 202-564-0614; e-mail: dorfman.jordan@epa.gov.

Dated: April 30, 2002.
Richard T. Kuhlman,
Director, Municipal Support Division, Office of Wastewater Management.

[FR Doc. 02-11740 Filed 5-9-02; 8:45 am]

BILLING CODE 6560-50-P